ENVIRONMENTAL PROTECTION AGENCY

[FRL-8025-3]

Proposed CERCLA Administrative Settlement Agreement for the Bountiful/Woods Cross/5th South Pce Plume NPL Site, in Woods Cross, Davis County, UT

AGENCY: Environmental Protection Agency (EPA).

ACTION: Notice and request for public comment.

SUMMARY: In accordance with the requirements of section 122(h)(1) of the Comprehensive Environmental Response, Compensation, and Liability Act, as amended (“CERCLA”), 42 U.S.C. 9622(h)(1), notice is hereby given of the proposed administrative settlement under section 122(h) of CERCLA, 42 U.S.C. 9622(h), between EPA and W.S. Hatch Company and Jack B. Kelley, Inc. (“Settling Parties”) regarding the W.S. Hatch facility (the “Facility”). The property which is the subject of this proposed Settlement Agreement is a parcel of land approximately three acres in size and is located at approximately 643 South and 800 West in Woods Cross, Davis County, Utah. The terms of the proposed Administrative Settlement Agreement, (the “Settlement”), are intended to resolve the Settling Parties' liability at the Site for all response costs incurred and paid, or to be incurred and paid, by EPA in connection with the work performed at the Site as provided for in the Settlement.

W.S. Hatch Company, a subsidiary of Jack B. Kelley, Inc., is the owner of a parcel of land which has been impacted by business operations at the Facility and is included within the defined boundaries of the Site. The proposed Settlement will resolve the Settling Parties' liability under section 107(a)(1) of CERCLA, 42 U.S.C. 9607(a)(1). EPA has performed an ability to pay analysis of Settling Parties' financial capacity. Under the terms of the proposed Settlement, W.S. Hatch Company agrees to pay $450,000, plus interest, to EPA over five installment payments, and Jack B. Kelley, Inc. agrees to pay the principal sum of $40,000 to EPA. In exchange, the Settling Parties will settle their liability for all response costs incurred and paid, or to be incurred and paid, at the Site in connection with the work performed at the Site as provided for in the Settlement.

Opportunity for Comment: For thirty (30) days following the date of publication of this notice, the Agency will consider all comments received on the Payment of Response Costs portion of the Settlement only (Section VI) and may modify or withdraw its consent to the Settlement if comments received disclose facts or considerations which indicate that the settlement is inappropriate, improper, or inadequate. The Agency's response to any comments received will be available for public inspection at the EPA Superfund Record Center, 999 18th Street, 5th Floor, in Denver, Colorado.

DATES: Comments must be submitted on or before February 27, 2006.

ADDRESSES: The proposed settlement and additional background information relating to the settlement are available for public inspection at the EPA Superfund Records Center, 999 18th Street, 5th Floor, in Denver, Colorado. Comments and requests for a copy of the proposed settlement should be addressed to Carol Pokorny, Enforcement Specialist (8ENF-RC), Technical Enforcement Program, U.S. Environmental Protection Agency, 999 18th Street, Suite 300, Denver, Colorado 80202-2466, and should reference the Hatch Co/Kelley Settlement Agreement for the Bountiful/Woods Cross/5th South PCE Plume NPL Site in Bountiful, Davis County, Utah.

FOR FURTHER INFORMATION CONTACT: Carol Pokorny, Enforcement Specialist (8ENF-RC), Technical Enforcement Program, U.S. Environmental Protection Agency, 999 18th Street, Suite 300, Denver, Colorado 80202-2466, (303) 312-6970.

It is so agreed.

Dated: January 13, 2006.
Carol Rushin,
Assistant Regional Administrator, Office of Enforcement, Compliance and Environmental Justice, Region VIII.

[FR Doc. E6-993 Filed 1-25-06; 8:45 am]

BILLING CODE 6560-50-P